DEPARTMENT OF THE INTERIOR

Fish and Wildlife Service

[FWS-R6-ES-2012-N255; FXES11130600000-134-FF06E00000]

Endangered and Threatened Wildlife and Plants; Draft Revised Recovery Plan for Pallid Sturgeon

AGENCY: Fish and Wildlife Service, Interior.

ACTION: Notice of document availability for review and comment.

SUMMARY: The U.S. Fish and Wildlife Service (Service) announces the availability of a draft revised recovery plan for the pallid sturgeon (Scaphirhynchus albus). This species is federally listed as endangered under the Endangered Species Act of 1973, as amended (Act). The Service solicits review and comment from the public on this draft revised plan.

DATES: Comments on the draft revised recovery plan must be received on or before May 14, 2013.

ADDRESSES: Copies of the draft revised recovery plan are available by request from the Northern Rockies Fish and Wildlife Conservation Office, U.S. Fish and Wildlife Service, 2900 4th Avenue North, Room 301, Billings, MT 59101; telephone 406-247-7365. Submit comments on the draft recovery plan to the Project Leader at this same address. An electronic copy of the draft recovery plan is available at http://www.fws.gov/endangered/species/recovery-plans.html.

FOR FURTHER INFORMATION CONTACT: Project Leader, at the above address, or telephone 406-247-7365.

SUPPLEMENTARY INFORMATION:

Background

Restoring an endangered or threatened animal or plant to the point where it is again a secure, self-sustaining member of its ecosystem is a primary goal of the Service's endangered species program. To help guide the recovery effort, the Service prepares recovery plans for the federally listed species native to the United States where a plan will promote the conservation of the species. Recovery plans describe site-specific actions necessary for the conservation of the species, establish objective, measurable criteria which, when met, would result in a determination that the species no longer needs the protection of the Act (16 U.S.C. 1531 et seq.), and provide estimates of the time and cost for implementing the needed recovery measures.

The Act requires recovery plans for listed species unless such a plan would not promote the conservation of a particular species. The original plan for the species was approved in 1993. Section 4(f) of the Act, as amended in 1988, requires that public notice and opportunity for public review and comment be provided during recovery plan development. The Service will consider all information received during a public comment period when preparing each new or revised recovery plan for approval. The Service and other Federal agencies also will take these comments into consideration in the course of implementing approved recovery plans. It is our policy to request peer review of recovery plans. We will summarize and respond to the issues raised by the public and peer reviewers in an appendix to the approved recovery plan.

The pallid sturgeon (Scaphirhynchus albus), found in the Missouri and Mississippi River basins of the United States, was listed as an endangered species on September 6, 1990 (55 FR 36641). At the time of listing, the species was threatened by habitat destruction and modification, overutilization, and inadequacy of existing regulatory mechanisms, as well as other natural or manmade factors.

The recovery of pallid sturgeon will rely on effective conservation responses to the issues facing the species, which remain varied and complex. The pallid sturgeon is native to the Missouri and Mississippi Rivers and adapted to the pre-development habitat conditions that historically existed in these rivers. These conditions generally can be described as large, free-flowing, warm-water, and turbid rivers with a diverse assemblage of physical habitats that were in a constant state of change. Limiting factors include: (1) Activities that affect connectivity and the natural form, function, and hydrologic processes of rivers; (2) illegal harvest; (3) impaired water quality and quantity; (4) entrainment in water diversion structures; and (5) life history attributes of the species (i.e., delayed sexual maturity, females not spawning every year, and larval drift requirements). The degree to which these factors affect the species varies among river reaches. The recovery strategy for the pallid sturgeon focuses on the need to better understand certain life history traits and the complex interactions between these traits and altered habitats in the contemporary Missouri and Mississippi River basins, threats abatement, population management, research, and monitoring. We emphasize conserving extant genetic viability through a conservation augmentation program to prevent localized extirpation, researching and implementing habitat improvement as appropriate; monitoring habitat conditions; and monitoring population status.

Request for Public Comments

The Service solicits public comments on the draft revised recovery plan. All comments received by the date specified in DATES will be considered prior to approval of the plan. Written comments and materials regarding the plan should be addressed to the Field Supervisor (see ADDRESSES section). Comments and materials received will be available, by appointment, for public inspection during normal business hours at the above address. All public comment information provided voluntarily by mail, by phone, or at meetings (e.g., names, addresses, letters of comment, input recorded during meetings) becomes part of the official public record. If requested under the Freedom of Information Act by a private citizen or organization, the Service may provide copies of such information.

Authority

The authority for this action is section 4(f) of the Endangered Species Act, 16 U.S.C. 1533(f).

Dated: January 28, 2013.
Noreen E. Walsh,
Regional Director, Denver, Colorado.

[FR Doc. 2013-05997 Filed 3-14-13; 8:45 am]

BILLING CODE 4310-55-P